DEPARTMENT OF AGRICULTURE

Rural Housing Service

Notice of Request for Extension of a Currently Approved Information Collection

AGENCY: Rural Housing Service (RHS), USDA Rural Development.

ACTION: Proposed collection; comments requested.

SUMMARY: In accordance with the Paperwork Reduction Act of 1995, this notice announces the Rural Housing Service's intention to request an extension for a currently approved information collection in support of the program for Technical and Supervisory Assistance (TSA) grants.

DATES: Comments on this notice must be received by September 4, 2007 to be assured of consideration.

FOR FURTHER INFORMATION CONTACT: Nica Mathes, Senior Loan Specialist, Single Family Housing Direct Loan Division, Rural Housing Service, U.S. Department of Agriculture, Mail STOP 0783, 1400 Independence Ave., SW., Washington, DC 20250-0783, Telephone 202-205-3656.

SUPPLEMENTARY INFORMATION:

Title: Technical & Supervisory Assistance Grants.

OMB Number: 0575-0188.

Expiration Date of Approval: November 30, 2007.

Type of Request: Extension of currently approved information collection.

Abstract: RHS is authorized under Section 525 of Title V of the Housing Act of 1949, as amended, to make grants to or to enter into contracts to pay part or all of the cost of developing, conducting, administering or coordinating effective and comprehensive programs of technical and supervisory assistance which will aid needy low-income individuals and families in benefiting from Federal, State and local housing programs in rural areas.

Recipient public or private nonprofit corporations, agencies, institutions, organizations, Indian tribes and other associations approved by the Secretary assist low-income individuals by providing homebuyer training, preparing applications for loan and other housing assistance, and counseling those with delinquent Rural Development housing loans. RHS refers to this program as Technical and Supervisory Assistance. RHS annually publishes a Notice of Funds Availability (NOFA) in the Federal Register to invite grant proposals. The NOFA sets forth the eligibility and application requirements.

Information is collected from applicants and grant recipients by Rural Development staff in its local, State and National offices. This information will be used to determine applicant eligibility for a grant, project feasibility, to select grants for funding, and to monitor performance of selected grantees. If an applicant's proposal is selected for funding, it will be notified of the selection and given the opportunity to submit a formal application.

Estimate of Burden: Public reporting burden for this collection of information is estimated to average .56 hours per response.

Respondents: Public and private nonprofit corporations, agencies, institutions, organizations, and Indian tribes.

Estimated Number of Respondents: 50.

Estimated Number of Responses per Respondent: 7.

Estimated Number of Responses: 349.

Estimated Total Annual Burden on Respondents: 621 hours.

Copies of this information collection can be obtained from Renita Bolden, Regulations and Paperwork Management Branch, at (202) 692-0035.

Comments

Comments are invited on: (a) Whether the proposed collection of information is necessary for the proper performance of the functions of RHS, including whether the information will have practical utility; (b) the accuracy of RHS' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave., SW., Washington, DC 20250. All responses to this notice will be summarized and included in the request for OMB approval. All comments will also become a matter of public record.

Dated: June 27, 2007.
Russell T. Davis,
Administrator, Rural Housing Service.

[FR Doc. E7-12969 Filed 7-3-07; 8:45 am]

BILLING CODE 3410-XV-P